DEPARTMENT OF AGRICULTURE

Forest Service

Plumas County Resource Advisory Committee (RAC)

AGENCY: Forest Service, USDA.

ACTION: Notice of meeting.

SUMMARY: The Plumas County Resource Advisory Committee (RAC) will hold a meeting on March 10, 2006, in Quincy, CA. The primary purpose of the meeting is to review, discuss, and comment on the concept papers submitted for Cycle 6 funding consideration.

DATES and ADDRESSES: The March 10, 2006 meeting will take place from 9-4 at the Mineral Building-Plumas/Sierra County Fairgrounds, 208 Fairgrounds Road, Quincy, CA.

FOR FURTHER INFORMATION CONTACT: Lee Anne Schramel Taylor, Forest Coordinator, USDA, Plumas National Forest, P.O. Box 11500/159 Lawrence Street, Quincy, CA 95971; (530) 283-7850; or by e-mail eataylor@fs.fed.us.

SUPPLEMENTARY INFORMATION: Agenda items for the March 10 meeting include: (1) Forest Service Update; (2) Review, discuss, and comment on the concept papers submitted for Cycle 6 funding consideration; and, (3) Review future meeting schedule and agenda. The meetings are open to the public and individuals may address the Committee after being recognized by the Chair. Other RAC information including previous meeting agendas and minutes may be obtained at http://wwwnotes.fs.fed.us:81/r4/payments_to_states.

Dated: February 15, 2006.
Michael K. Condon,
Forest Fire Management Officer.

[FR Doc. 06-1592 Filed 2-21-06; 8:45 am]

BILLING CODE 3410-11-M